INTERNATIONAL TRADE COMMISSION

[USITC SE-05-017]

Government in the Sunshine Act Meeting Notice

Agency Holding the Meeting: United States International Trade Commission.

Time and Date: May 16, 2005, at 11 a.m.

Place: Room 101, 500 E Street, SW., Washington, DC 20436, telephone: (202) 205-2000.

Status: Open to the public.

Matters to be Considered: 1. Agenda for future meetings: None.

2. Minutes.

3. Ratification List.

4. Inv. No. 731-TA-1090 (Preliminary) (Artists' Canvas from China)—briefing and vote. (The Commission is currently scheduled to transmit its determination to the Secretary of Commerce on or before May 16, 2005; Commissioners' opinions are currently scheduled to be transmitted to the Secretary of Commerce on or before May 23, 2005.)

5. Outstanding action jackets: None.

In accordance with Commission policy, subject matter listed above, not disposed of at the scheduled meeting, may be carried over to the agenda of the following meeting.

By order of the Commission.
Issued: May 3, 2005.
Marilyn R. Abbott,
Secretary to the Commission.

[FR Doc. 05-9239 Filed 5-4-05; 2:30 pm]

BILLING CODE 7020-02-P